DEPARTMENT OF TRANSPORTATION

Federal Highway Administration

Agency Information Collection Activities: Submission for OMB Review

AGENCY: Federal Highway Administration (FHWA), DOT.

ACTION: Notice and request for comments.

SUMMARY: The FHWA has forwarded the information collection request described in this notice to the Office of Management and Budget (OMB) for review and approval. We published a Federal Register Notice with a 60-day public comment period on this information collection on July 14, 2000 (65 FR 43824). We are required to publish this notice in the Federal Register by the Paperwork Reduction Act of 1995.

DATES: Please submit comments by September 24, 2001.

ADDRESSES: You may send comments to the Office of Information and Regulatory Affairs, Office of Management and Budget, 725 17th Street, NW., Washington, DC 20503, Attention: DOT Desk Officer. You are asked to comment on any aspect of these information collections, including: (1) Whether the proposed collections are necessary for the FHWA's performance; (2) the accuracy of the estimated burdens; (3) ways for the FHWA to enhance the quality, usefulness, and clarity of the collected information; and (4) ways that the burdens could be minimized, including the use of electronic technology, without reducing the quality of the collected information.

SUPPLEMENTARY INFORMATION Title: Design/Build Research Study.

Abstract: The Transportation Equity Act for the 21st Century (TEA-21), Section 1307, prescribes the interim provisions under which projects can be advanced utilizing design/build contracting procedures. TEA-21 mandates that regulations will be developed to carry out the amendments made by section 1307. With the increased funding available under TEA-21, States are expected to increase their use of design/build contracting to advance projects. One unique aspect of design/build contracting is that it authorizes construction at the time the project agreement is signed. This allows the contractor to begin construction on a parcel of land as soon as it is acquired. The contractor is responsible for maintaining access, availability of utilities and any related safety concerns for vacant landowners, homeowners and/or businesses that await acquisition of, or relocation from, their property for right-of-way purposes. The FHWA Office of Real Estate Services, in conjunction with South Carolina State University, will conduct a survey of the approximately 100 property owners, residents, business owners and various contractors who were involved in a recent design/build project in Virginia. The purpose is to ascertain their perceptions of the prime contractor's ability and responsiveness to possible safety-related, access or utility issues that may have affected them. The information will be collected by telephone/written surveys, personal interviews and/or site visits. The information gathered from the survey will be used by the Office of Real Estate Services to assist in the drafting of the regulations as prescribed in TEA-21 and any subsequent guidance issued to the states.

Respondents: Approximately 100 affected property owners, residents, business owners and various contractors involved in a recent design/build project in Virginia.

Estimated Total Annual Burden: 30 minutes per response; total estimate of 50 burden hours.

FOR FURTHER INFORMAITON CONTACT: Mr. David Walterscheid, 202-366-9901, Department of Transportation, Federal Highway Administration, Office of Real Estate Services, 400 Seventh Street, SW., Washington, DC 20590. Office hours are from 7:30 a.m. to 5:00 p.m., Monday through Friday, except Federal holidays.

Electronic Access

Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Paperwork Reduction Act of 1995; 44 U.S.C. Chapter 35, as amended; and 49 CFR 1.48.

Issued on: August 17, 2001.
James R. Kabel,
Chief, Management Programs and Analysis Division.

[FR Doc. 01-21303 Filed 8-22-01; 8:45 am]

BILLING CODE 4910-22-P